NUCLEAR REGULATORY COMMISSION

Advisory Committee on Reactor Safeguards (ACRS), Meeting of the ACRS Subcommittee on Fukushima; Cancellation of the January 18, 2013, ACRS Subcommittee Meeting

The ACRS Subcommittee meeting on Fukushima scheduled for January 18, 2013 has been cancelled.

The notice of this meeting was previously published in the Federal Register on Monday, December 17, 2012, (77 FR 74697-74698).

Information regarding this meeting can be obtained by contacting Antonio Dias, Designated Federal Official (DFO) (Telephone 301-415-6805 or Email: Antonio.Dias@nrc.gov) between 7:30 a.m. and 5:15 p.m. (e.s.t.)).

Dated: January 3, 2013.
Mark Banks,
Acting Chief, Technical Support Branch, Advisory Committee on Reactor Safeguards.

[FR Doc. 2013-00546 Filed 1-11-13; 8:45 am]

BILLING CODE 7590-01-P